DEPARTMENT OF COMMERCE

National Institute of Standards and Technology

CHIPS R&D Standards Summit

AGENCY: CHIPS Research and Development Office (CHIPS R&D Office), National Institute of Standards and Technology (NIST), Department of Commerce.

ACTION: Notice of public meeting.

SUMMARY: The National Institute of Standards and Technology (NIST) announces that the CHIPS Research and Development Office (CHIPS R&D Office) will hold a Standards Summit on Tuesday, September 26, 2023 and Wednesday, September 27, 2023, from 8:30 a.m. to 5:30 p.m. Eastern Time each day. The CHIPS R&D Standards Summit will be held as an in-person and virtual event. This event will bring together CHIPS R&D leaders, standards setting organizations, and industry alliances, domestic and abroad, in the semiconductor domain to identify community priorities for semiconductor and microelectronics standards activities. The summit will be a place to foster collaboration, coordination, and innovation within the semiconductor industry's standards community. This event will facilitate discussions on standards needs, opportunities for standards innovation, and enabling a diverse standards-capable workforce. Registration information, summit updates, and the agenda can be found at https://www.nist.gov/news-events/events/2023/09/chips-rd-standards-summit.

DATES: The CHIPS R&D Standards Summit will take place on Tuesday, September 26, 2023, and Wednesday, 27, 2023, from 8:30 a.m. to 5:30 p.m. Eastern Time each day. The summit will require prior registration and is open to the public. Registration for both virtual and in-person will close on Tuesday, September 19, 2023 at 11:59 p.m. Eastern Time.

ADDRESSES: The CHIPS R&D Standards Summit will be held in person and virtually via web conference from the Capitol Hilton located at 1001 16th St. NW, Washington, DC 20036. Registration is required to participate either in person or virtually, and members of the public should register in accordance with the information provided in the SUPPLEMENTARY INFORMATION section of this notice.

FOR FURTHER INFORMATION CONTACT: For more information about the CHIPS R&D Standards Summit, please contact Chris Greer by telephone at (301) 975-5919 or by email at christopher.greer@nist.gov.

SUPPLEMENTARY INFORMATION: The CHIPS R&D Standards Summit will bring together thought leaders within the semiconductor industry and academia to shape the future of semiconductor and microelectronics standards and drive innovation. The summit will offer sessions that facilitate consensus building on the top priority areas within the industry, ways to accelerate strategic efforts across these priority areas, and cover concepts from incubators and accelerators as practiced in the technology sector that might be adapted for use in standards development and enabling a diverse, standards-capable workforce. The summit's first day will consist of plenary and panel sessions with exemplary keynote and guest speakers in the semiconductor and microelectronics standards space. The following day will consist of breakout sessions where attendees will collaborate and discuss key topics that will help shape future semiconductor and microelectronics standards activities.

Participants will explore ways to improve the agility and efficiency of the standards process, ensuring its continued growth in the rapidly evolving semiconductor industry. The scope of the summit includes the full range of standards types—including best practices, de facto, and formal standards—while spanning the semiconductor and microelectronics sector, from materials and design to fabrication, packaging, and testing and certification. Featured speakers include CHIPS R&D leaders, representatives of standards setting organizations, and leading industry alliances and consortia.

Co-hosted by the CHIPS R&D Office, the American National Standards Institute (ANSI), the IEEE Industry Standards and Technology Organization (IEEE-ISTO), the International Electronics Manufacturing Initiative (iNEMI), IPC International, the Joint Development Foundation (JDF), the Networking and Information Technology Research and Development Program (NITRD), the National Nanotechnology Coordination Office (NNCO), SEMI North America, and the Semiconductor Industry Association (SIA), the summit will bring together key stakeholders and experts to exchange ideas on focusing and accelerating strategic efforts across the full spectrum of standards development pathways.

The outcomes of the CHIPS R&D Standards Summit will shape future stakeholder meetings and inform strategies for the CHIPS R&D Office. They will also provide input to standards and measurement programs supporting the needs of the semiconductor industry, enhancing innovation and technology advancement. These outcomes will be published in a post-summit report and will inform standards planning efforts across the semiconductor innovation ecosystem and within the CHIPS R&D Office.

We encourage interested stakeholders, industry representatives, and standards setting organizations to participate actively in this pivotal event. We also invite international attendees, as fostering global collaboration and enriching the discussions on advancing semiconductor standards and innovation is paramount to success. Join us at the CHIPS R&D Standards Summit as we collaboratively shape the future of semiconductor and microelectronics standards, foster innovation, and advance the industry as a whole.

Registration Information: The CHIPS R&D Standards Summit is available for guests to attend in person in Washington, DC, or virtually via a web conference platform. Registration for all attendees is on a first-come, first-served basis. An in-person registration fee of $41 includes all-day coffee, tea and bottled beverages. There is no registration fee to attend virtually. Once the event has reached capacity for registration, additional registrants will be added to a waitlist. All attendees will participate in the keynote, plenary, and breakout sessions. In-person guests will participate in live discussions during the various sessions. Virtual guests can contribute to discussions via Q&A and conversation tools on the web conference platform. On the summit registration form, attendees must select whether to attend in person or virtually. Attendees must also provide their full name, contact information, company name and title, and any accessibility accommodation requests. Registration for in-person and virtual attendance options will close on Tuesday, September 19, 2023 at 11:59 p.m. Eastern Time. For more information and to register for the event, visit the CHIPS R&D Standards Summit website at https://www.nist.gov/news-events/events/2023/09/chips-rd-standards-summit.

About CHIPS for America

CHIPS for America includes the CHIPS Program Office, responsible for semiconductor incentives, and the CHIPS Research and Development Office, responsible for R&D programs. Both sit within the National Institute of Standards and Technology (NIST) at the Department of Commerce.

Alicia Chambers,
NIST Executive Secretariat.

[FR Doc. 2023-19645 Filed 9-11-23; 8:45 am]

BILLING CODE 3510-13-P